DEPARTMENT OF THE INTERIOR

Bureau of Land Management

[UT-921-08-1430-FR-241E; UTU-85820]

Filing of State Indemnity Selection Application and Termination of Exchange Segregation; Utah

AGENCY: Bureau of Land Management, Interior.

ACTION: Notice of realty action.

SUMMARY: On September 11, 2007, the State of Utah, School and Institutional Trust Lands Administration (State) filed indemnity selection application UTU-85820, to have the surface and mineral estate of 281.72 acres of Federal land transferred to the State pursuant to Sections 2275 and 2276 of the Revised Statutes, as amended (43 U.S.C. 851-852). The lands have been selected by the State in lieu of school section lands granted to the State pursuant to the Utah Enabling Act of July 16, 1894, but for which title could not pass because the lands were otherwise encumbered or reserved at the time of statehood.

FOR FURTHER INFORMATION CONTACT: Joy Wehking, Bureau of Land Management, Utah State Office, 324 South State Street, P.O. Box 45155, Salt Lake City, Utah 84145-0155. Phone 801-539-4117.

SUPPLEMENTARY INFORMATION: The 281.72 acres under application are located in Iron County, and are described as follows:

T. 35 S., R. 12 W., Salt Lake Meridian, Utah

Sec. 14, S½S½SW¼, W½SE¼;

Sec. 15, S½S½SE¼;

Sec. 23, Lot 2, E½NW¼.

The above described lands were segregated from the public land and mineral laws on July 30, 2004, in connection with an exchange proposal (UTU-79738) between the Bureau of Land Management and the State. The lands have been eliminated from the exchange and the exchange segregation is hereby terminated upon publication of this notice. The filing of the in lieu application by the State segregates the Federal lands from the public land laws and mineral laws. This segregation becomes effective upon publication of this notice and shall terminate upon the issuance of a certificate of acceptance of the in lieu selection for the Federal lands if the lands are found suitable for transfer; upon the publication in the Federal Register of a notice of termination of the segregation; or upon the expiration of two years from the date of the filing of this application, whichever occurs first.

Authority: 43 CFR 2091.3-1(b) and 43 CFR 2201.1-2(c)(2).

Dated: October 26, 2007.
Jeff Rawson,
Acting State Director.

[FR Doc. E7-21556 Filed 11-1-07; 8:45 am]

BILLING CODE 4310-$$-P